DEPARTMENT OF THE INTERIOR

National Park Service

National Register of Historic Places; Notification of Pending Nominations

Nominations for the following properties being considered for listing in the National Register were received by the National Park Service before June 12, 2004. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, (202) 371-6447. Written or faxed comments should be submitted by July 21, 2004.

Carol D. Shull,
Keeper of the National Register of Historic Places.

ALASKA

Anchorage Borough—Census Area

Civil Works Residential Dwellings, 786 and 800 Delaney St., Anchorage, 04000717

Kodiak Island Borough—Census Area

Agricultural Experiment Station Barn, 614 Egan Way, Kodiak, 04000716

ARIZONA

Cochise County

Our Lady of Victory Catholic Church, Fronting 4th St., bet. Cedar and Spruce Sts., Pearce, 04000718

Smith, J.H., Grocery Store and Filling Station, 1835 Old Ranch Rd., Dragoon, 04000720

Yavapai County

Mayer Red Brick Schoolhouse, Main St., Mayer, 04000719

CONNECTICUT

New London County

St. James Episcopal Church, 125 Huntington St., New London, 04000731

KANSAS

Douglas County

Hancock (12th Street) Historic District, (Lawrence, Kansas MPS) Roughly along W. 12th St., from Oread Ave. to Mississippi St., Lawrence, 04000726

Mitchell County

Porter Hotel, 209 E. Main St., Beloit, 04000725

Riley County

McFarlane—Wareham House, 1906 Leavenworth, Manhattan, 04000724

MINNESOTA

Goodhue County

Carleton Airport, 1235 MN 19, Stanton, 04000722

Olmsted County

Balfour, Dr. Donald C., House, 427 Sixth Ave. SW., Rochester, 04000723

Ramsey County

St. Paul Municipal Grain Terminal, (Grain Elevator Design in Minnesota MPS) 266 Old Shepard Rd., St. Paul, 04000721

NEVADA

Douglas County

Reese—Johnson—Virgin House, 193 Genoa Ln., Genoa, 04000728

Elko County

Midas Schoolhouse, Second St., two blks east of Main St., Midas, 04000727

OREGON

Marion County

Delaney—Edwards House, 4292 Delaney Rd. SE, Salem, 04000729

WISCONSIN

Oneida County

Reay Boathouse, 1260 Honk Hill Rd., Three Lakes, 04000730

A request for REMOVAL has been made for the following resource:

PENNSYLVANIA

Crawford County

White, Dr. James, House Jct. of U.S. 322 and PA 285, Hartstown, 80003478

[FR Doc. 04-15149 Filed 7-2-04; 8:45 am]

BILLING CODE 4312-51-P